DEPARTMENT OF AGRICULTURE

Forest Service

Wallowa-Whitman and Umatilla National Forests, Oregon Granite Creek Watershed Mining Plans

AGENCY: Forest Service, USDA.

ACTION: Notice of intent to prepare an environmental impact statement.

SUMMARY: The USDA, Forest Service will prepare an environmental impact statement to authorize the approval of mining Plans of Operation in the Granite Creek Watershed Mining Plans analysis area on the Whitman Ranger District of the Wallowa-Whitman National Forest, and the North Fork John Day Ranger District of the Umatilla National Forest.

Both forests had previously initiated environmental analyses for proposed mining Plans in the portions of the Granite Creek Watershed under their administration. As issues identified by each forest were similar, it became clear that combining the analysis into one EIS would be the most efficient way to complete the task.

DATES: Written comments concerning the scope of the analysis must be received by November 10, 2011. The draft environmental impact statement is expected July 2012 and the final environmental impact statement is expected November 2012.

ADDRESSES: Send written comments and suggestions to Jeff Tomac, Whitman District Ranger, Wallowa-Whitman National Forest, PO Box 947, Baker City, OR 97814. Comments may also be sent via e-mail to comments-pacificnorthwest-wallowa-whitman-whitmanunit@fs.fed.us.

FOR FURTHER INFORMATION CONTACT: Sophia Millar, Interdisciplinary Team Leader, Wallowa-Whitman National Forest, Wallowa Mountains Office, PO Box 905, Joseph, OR 97846, Phone: (541) 426-5540.

Individuals who use telecommunication devices for the deaf (TDD) may call the Federal Information Relay Service (FIRS) at 1-800-877-8339 between 8 a.m. and 8 p.m., Eastern Time, Monday through Friday.

SUPPLEMENTARY INFORMATION:

Purpose and Need

The purpose of and need for this action is to authorize the approval of proposed Plans of Operations (Plans) submitted by the operations, as specified in 36 CFR 228.4(a), pending receipt of 401 certifications as deemed necessary by the Oregon Department of Environmental Quality.

Proposed Action

The Granite Creek Watershed Mining Plans analysis area is located on the Whitman Ranger District of the Wallowa-Whitman National Forest, approximately 45 miles west of Baker City, Oregon, and on the North Fork John Day Ranger District of the Umatilla National Forest, approximately 45 miles south of Ukiah, Oregon. The decision area will cover 30 proposed mining Plans of Operation within the Granite Creek Watershed, an area of approximately 94,479 acres of National Forest System lands, in Baker and Grant Counties. Typically, each project will disturb and reclaim an area of approximately 1-2 acres annually.

This EIS will analyze and authorize the approval of 30 proposed mining Plans (17 on the Wallowa-Whitman National Forest, 11 on the Umatilla National Forest, and 2 overlapping both forests), and evaluate and propose additional operational requirements for some or all of these Plans. Authorization of Plan approvals will occur after receipt of 401 certification, as deemed necessary by the Oregon Department of Environmental Quality.

Responsible Official

The Whitman District Ranger, Jeff Tomac, will be the responsible official for making the decision and providing direction for the analysis.

Nature of Decision To Be Made

The responsible official will decide whether or not to authorize the approval of mining Plans within the Granite Creek Watershed Mining Plans analsyis area. The responsible official will also decide whether or not to select the proposed action as stated or modified, or to select an alternative to it, any mitigation measures needed, and any monitoring that may be required.

Preliminary Issues

The interdisciplinary team has conducted field surveys and data research to identify preliminary issues of concern with this proposal. The primary concern is the potential for sediment or heavy metal discharges into streams from mining operations, potentially impacting water quality, fish and fish habitat (pools and temperature).

Within the Granite Creek Watershed, under section 303(d) of the Clean Water Act, the Oregon Department of Environmental Quality (DEQ) has listed Beaver Creek and Clear Creek as water quality limited for temperature, and Bull Run Creek and Granite Creek as water quality limited for temperature and sediment. Fish species listed as threatened under the Endangered Species Act occurring within the watershed include bull trout and middle Columbia River steelhead trout. Based on these preliminary issues and the level of activity proposed at some sites, there is the potential for significant impacts to some resources, therefore an EIS fits the scope of this analysis rather than an Environmental Assessment (EA).

Scoping Process

This notice of intent initiates the scoping process, which guides the development of the environmental impact statement. Public participation is especially important at several points during the development of the EIS. The Forest Service is seeking information, comments, and coordination with Federal, State, and local agencies, and tribal governments, individuals or organizations who may be interested in or affected by the proposed action. The most useful comments to developing or refining the proposed action would be site-specific concerns and those that pertain to authorizing mining activities within the Granite Creek Watershed Mining Plans analysis area that meets the Purpose of and Need for Action.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action and will be available for public inspection.

Authority: 40 CFR 1501.7 and 1508.22; Forest Service Handbook 1909.15, Section 21. Comments submitted anonymously will be accepted and considered, however those who only submit anonymous comments will not have standing to appeal the subsequent decision under 36 CFR part 215.

Dated: October 2, 2011.
Jeff Tomac,
Whitman District Ranger Wallowa-Whitman National Forest.

[FR Doc. 2011-26220 Filed 10-7-11; 8:45 am]

BILLING CODE 3410-11-P